DEPARTMENT OF THE INTERIOR

Fish and Wildlife Service

[FWS-R4-R-2010-N240; 40136-1265-0000-S3]

Pine Island, Matlacha Pass, Island Bay, and Caloosahatchee NWRs, Lee County, FL; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for the environmental assessment for Pine Island, Matlacha Pass, Island Bay, and Caloosahatchee NWRs. In the final CCP, we describe how we will manage these refuges for the next 15 years.

ADDRESSES: You may obtain a copy of the CCP by writing via U.S. mail to: Mr. Paul Tritaik, Project Leader, 1 Wildlife Drive, Sanibel, FL 33957. Alternatively, you may request a copy by sending e-mail to: DingDarling@fws.gov. The CCP may also be accessed and downloaded from the Service's Web site: http://www.fws.gov/southeast/planning/ under “Final Documents.”

FOR FURTHER INFORMATION CONTACT: Mr. Paul Tritaik, at 239/472-1100 (telephone) or DingDarling@fws.gov (e-mail); or Ms. Cheri M. Ehrhardt, at 321-861-2368 (telephone) or DingDarlingCCP@fws.gov (e-mail).

SUPPLEMENTARY INFORMATION:

Introduction

With this notice, we finalize the CCP process for Pine Island, Matlacha Pass, Island Bay, and Caloosahatchee NWRs. We started this process through notices in the Federal Register on June 27, 2007 (72 FR 35254) and April 2, 2008 (73 FR 17991).

The four refuges currently total about 1,201 acres: Pine Island NWR is 602.24 acres, Matlacha Pass NWR is 538.25 acres, Island Bay NWR is 20.24 acres, and Caloosahatchee NWR is 40 acres. As part of the largest undeveloped mangrove ecosystem in the United States, these four closed refuges provide for native wildlife and habitat diversity through a mix of habitats, including mangrove islands and shorelines, saltwater marshes and ponds, tidal flats, and upland hardwood forests. They also provide protection for 13 Federal-listed and 25 State-listed species, as well as for wading birds, waterbirds, raptors and birds of prey, neotropical migratory birds, shorebirds, and seabirds.

We announce our decision and the availability of the final CCP and FONSI for Pine Island, Matlacha Pass, Island Bay, and Caloosahatchee NWRs in accordance with the National Environmental Policy Act (NEPA) (40 CFR 1506.6(b)) requirements. We completed a thorough analysis of impacts on the human environment, which we included in the draft comprehensive conservation plan and environmental assessment (Draft CCP/EA).

The CCP will guide us in managing and administering Pine Island, Matlacha Pass, Island Bay, and Caloosahatchee NWRs for the next 15 years.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every15 years in accordance with the Administration Act.

Comments

We made copies of the Draft CCP/EA available for a 30-day public review and comment period via a Federal Register notice on May 21, 2010 (75 FR 28643). We received comments from the general public, an organization, and governmental agencies, including State and local agencies and a national estuary program. Comments were also submitted through the State Clearinghouse for State agencies.

Selected Alternative

After considering the comments we received, we have selected Alternative C for implementation. The primary focus under Alternative C is migratory birds. Implementing Alternative C is expected to result in increased protection for breeding, nesting, resting, roosting, foraging, and migrating birds on these four refuges. Increased information on a variety of species, suites of species, and habitats will enhance decision-making for these refuges. Further benefits will be realized from increased control of exotic, invasive, and nuisance species. We will coordinate with the partners to address concerns related to the impacts from water quality, quantity, and timing of flows and from climate change and sea level rise. Resource protection will be enhanced, including through increased information about cultural resources on the refuges, resolved boundary issues, additional special designations, improved management of the Island Bay Wilderness Area, improved coordination with the partners to increase awareness and understanding of area residents and area visitors of these closed refuges, and minimized impacts from adjacent uses. To achieve this, we will work with governmental and non-governmental partners, area communities, the “Ding” Darling Wildlife Society, and local businesses, and we will pursue the addition of refuge-specific staff to address management concerns.

Alternative C is considered to be the most effective for meeting the purposes of the refuges and addressing the priority issues facing each refuge, including increasing and changing human population, development of the landscape, recreational uses and demands, and associated impacts; issues and impacts associated with water quality, water quantity, and timing of flows; invasion and spread of exotic, invasive, and nuisance species; climate change impacts; need for long-term protection of important resources; declines in and threats to rare, threatened, and endangered species; insufficient baseline wildlife and habitat data and lack of a comprehensive habitat management plan; and lack of resources to address refuge needs.

Authority

This notice is published under the authority of the National Wildlife Refuge System Improvement Act of 1997, Public Law 105-57.

Dated: November 22, 2010.
Mark J. Musaus,
Acting Regional Director.

Editorial Note: This document was received in the Office of the Federal Register on March 21, 2011.

[FR Doc. 2011-6939 Filed 3-23-11; 8:45 am]

BILLING CODE 4310-55-P